DEPARTMENT OF TRANSPORTATION

Coast Guard

33 CFR Part 160

[USCG-2001-11865]

RIN 2115-AG35

Notification of Arrival in U.S. Ports

AGENCY: Coast Guard, DOT.

ACTION: Notice of proposed rulemaking.

SUMMARY: The Coast Guard proposes permanent changes to its notification of arrival and departure requirements for commercial vessels greater than 300 gross tons bound for or departing from ports or places in the United States. We propose to incorporate most of the temporary changes we made following the September 11, 2001, terrorist attacks. We also propose to consolidate the notice of departure and notice of arrival; require electronic submission of cargo manifest information to U.S. Customs Service; and require additional crew and passenger information. The proposed permanent changes would help ensure public safety, security, and the uninterrupted flow of commerce.

DATES: Comments and related material must reach the Docket Management Facility on or before August 19, 2002. Comments sent to the Office of Management and Budget (OMB) on collection of information must reach OMB on or before August 19, 2002.

ADDRESSES: To make sure that your comments and related material are not entered more than once in the docket, please submit them by only one of the following means:

(1) By mail to the Docket Management Facility (USCG-2001-11865), U.S. Department of Transportation, room PL-401, 400 Seventh Street SW., Washington, DC 20590-0001.

(2) By delivery to room PL-401 on the Plaza level of the Nassif Building, 400 Seventh Street SW., Washington, DC between 9 a.m. and 5 p.m., Monday through Friday, except Federal holidays. The telephone number is 202-366-9329.

(3) By fax to the Docket Management Facility at 202-493-2251.

(4) Electronically through the website for the Docket Management System at http://dms.dot.gov/.

You must also mail comments on collection of information to the Office of Information and Regulatory Affairs, Office of Management and Budget, 725 17th Street NW., Washington, DC 20503, ATTN: Desk Officer, U.S. Coast Guard.

The Docket Management Facility maintains the public docket for this rulemaking. Comments and material received from the public, as well as documents mentioned in this preamble as being available in the docket, will become part of this docket and will be available for inspection or copying at room PL-401 on the Plaza level of the Nassif Building, 400 Seventh Street SW., Washington, DC between 9 a.m. and 5 p.m., Monday through Friday, except Federal holidays. You may also find this docket on the Internet at http://dms.dot.gov.

FOR FURTHER INFORMATION CONTACT: If you have questions on this proposed rule, call LTJG Marcus A. Lines, U.S. Coast Guard (G-MP), at 202-267-6854. If you have questions concerning U.S. Customs Service procedures, call Kimberly Nott at 202-927-0042. If you have questions on viewing or submitting material to the docket, call Dorothy Beard, Chief, Dockets, Department of Transportation, at 202-366-5149.

SUPPLEMENTARY INFORMATION:

Request for Comments

We encourage you to participate in this rulemaking by submitting comments and related material. If you do so, please include your name and address, identify the docket number for this rulemaking (USCG-2001-11865), indicate the specific section of this document to which each comment applies, and give the reason for each comment. You may submit your comments and material by mail, hand delivery, fax, or electronic means to the Docket Management Facility at the address under ADDRESSES; please submit your comments and material by only one means. If you submit them by mail or hand delivery, submit them in an unbound format, no larger than 8½ by 11 inches, suitable for copying and electronic filing. If you submit them by mail and would like to know that they reached the Facility, please enclose a stamped, self-addressed postcard or envelope. We will consider all comments and material received during the comment period. We may change this proposed rule in view of them.

Public Meeting

We do not now plan to hold a public meeting. You may submit a request for one to the Docket Management Facility at the address under ADDRESSES explaining why one would be beneficial. If we determine that one would aid this rulemaking, we will hold one at a time and place announced by a later notice in the Federal Register.

Background and Purpose

The terrorist attacks of September 2001 killed thousands of people and heightened the need for security checks on all modes of travel, particularly those modes by which foreign nationals and products can enter the country. In the maritime context, extra time is needed for security checks. If the required arrival information is not received early enough, vessels bound for U.S. ports and places could experience delays in entering port.

On October 4, 2001, we published a temporary final rule entitled “Temporary Requirements for Notification of Arrival in U.S. Ports” in the Federal Register (66 FR 50565). Subsequently, we published two corrections in the Federal Register [November 19, 2001 (66 FR 57877) and January 18, 2002 (67 FR 2571)]. The temporary rule increased the submission time for an NOA from 24 to 96 hours prior to arriving at port; required centralized submissions; temporarily suspended exemptions from reporting requirements for some groups of vessels; and required submission of passenger, crew, and cargo information.

Additional rulemakings may be necessary to increase maritime domain awareness or to achieve the goal of a single submission of all Federal Government arrival information requirements.

Extension of Temporary Final Rule

The temporary rule was effective until June 15, 2002. On May 30, 2002, we extended the effective period of the temporary rule until September 30, 2002 [67 FR 37682].

Discussion of Comments

General. During the comment period of the temporary rule, we received eight letters. Each of the eight commenters understood the need to strengthen security efforts and change the requirements for Notices of Arrivals (NOAs). Most of the comments contained suggestions about the process in which we manage and distribute the information reported from vessels.

One comment stated that some Captains of the Port (COTP) requested vessel owners and operators to submit a duplicate of the information already reported to the National Vessel Movement Center (NVMC). The comment recommended that information be reported only once. We agree with this comment. During the early implementation of the temporary rule some instances of duplicated reporting occurred. Those instances were resolved. This proposal would require reporting only to a centralized location.

Some comments also encouraged the Coast Guard to share or distribute NOA information among federal government agencies to limit duplicate submission requirements. We shared these suggestions with the program offices working with other agencies to eliminate or minimize redundant reporting requirements.

One comment encouraged the Coast Guard to state in “plain language” exactly what is required of vessel owners. The Coast Guard agrees. We request comments concerning the readability, organization, or presentation of requirements in this proposal. We will incorporate plain language principles into our Final Rule.

Local issues. One comment requested that COTPs use information submitted for an “explosive shipment carrying” permit to satisfy NOA submission requirements. Another comment complained that it is too difficult to accurately submit a 96-hour advance NOA to the NVMC, without subsequent updates.

These comments both discuss matters which are better addressed by the local COTP. Under § 160.205, these individuals may request a waiver from submitting an NOA report.

Electronic Submissions. A few comments suggested the Coast Guard provide electronic submission capabilities for submitting NOAs to the NVMC. Currently, the NVMC can receive electronic submissions in common file formats, such as ASCII text, MS Word documents, and MS Excel spreadsheets. In the “discussion of proposed rule” section of this preamble, we seek comments on electronic filing data specifications that would enable automatic processing of NOA data.

Discussion of Proposed Rule

This proposed rule would permanently change the notice of arrival (NOA) requirements. Many of the changes we propose to make permanent in this NPRM have been adopted from the temporary rule. This proposal also contains requirements that were not introduced in the temporary rule, and they are discussed in detail in this preamble.

Under 33 CFR part 160, subpart C, owners, agents, masters, operators, or persons in charge of vessels bound for U.S. ports must file an NOA before they enter port. (Persons required to submit reports will hereafter be called “submitters.”) In this rulemaking, the Coast Guard proposes to:

• Require additional information in NOA reports;

• Require electronic submissions of cargo manifest information to United States Customs Service (USCS);

• Change submission times for NOAs;

• Require submitters to report changes to submitted information;

• Merge the Notice of Departure (NOD) requirements with the NOA requirements;

• Allow consolidated NOA reports for multiple ports;

• Require centralized and electronic submissions;

• Revise exemptions from reporting requirements and

• Update definitions, and make technical corrections in the ISM Code Notice listed in 33 CFR 160.207(d).

Required elements in NOA reports. We propose to permanently require the following vessel, cargo, crew, and passenger information be reported. Submitters would identify each destination by listing the names of the receiving facility, the port or place in the U.S., the city, and the state, as well as indicate the location or position of the vessel at the time of reporting. Submitters would provide a general description of cargo aboard the vessel. The description would convey if the vessel were carrying items such as grain, oil, containers, etc. Submitters would provide the full name, date of birth, nationality, passport number or mariner's documentation number, and position or duty on the vessel, as applicable, for each crewmember and passenger.

In addition to making those requirements permanent, we also propose adding requirements for submitters to identify where each crewmember and passenger embarked. Submitters would provide any aliases, nickname, maiden name, professional, or stage name for each crewmember. This new information would allow us to better identify crewmembers entering our ports.

Cargo Manifest Information. The Coast Guard proposes requiring a new information requirement as part of the NOA submission. The new requirement is the vessel's cargo manifest information described in 19 CFR 4.7(a). This requirement is in addition to the one in § 160.207(b)(14), “general description of the cargo”, and would consist of a completed U.S. Customs Service form (Customs Form 1302). Cargo manifest information is necessary to assess cargoes entering U.S. ports for potential threats to the national security and appropriately respond to those threats.

The Coast Guard does not have the capability at its National Vessel Movement Center to receive and process the cargo manifest information. The U.S. Customs Service (USCS), however, does have an existing capability to receive, process, and share the information with Coast Guard, provided the information is submitted to USCS 96 hours before the vessel arrives at a U.S. port and provided it is submitted electronically to the USCS Sea Automated Manifest System (AMS). A single electronic submission of the cargo manifest information (Customs Form 1302) to USCS would satisfy the requirements of both agencies for submission of that data.

The Coast Guard proposes that the cargo manifest information be submitted electronically to USCS through AMS, while all other required NOA information would continue to be submitted to NVMC.

The Coast Guard requests comments on whether all vessels should be required to submit their cargo manifest information via electronic means utilizing Sea AMS, or should they be allowed to submit the cargo manifest by some other means?

To transmit information electronically, a submitter will begin by, first, calling 703-921-7501 or sending a letter to the following address requesting participation in the Sea AMS program: U.S. Customs Service, Client Representative Branch, 7501 Boston Blvd. Rm. 211, Springfield, VA 22153. Upon receiving an inquiry, Customs will send a respondent checklist to the party for completion.

Once the checklist is completed and returned to Customs, a USCS client representative will be assigned to work with the submitter. This representative will serve as a technical advisor establishing a Sea AMS interface. Establishing an interface for participation can require as little as two weeks or up to several months, depending on the particular method chosen.

AMS will allow participants to transmit manifest information electronically 96 hours prior to vessel arrival. There are four methods of transmitting data to AMS: (1) Establish a direct connection with Customs; (2) use a service provider; (3) use a port authority; and (4) purchase software from a vendor. For general information related to AMS, visit their Automated Commercial System website at http://www.customs.treas.gov/imp-exp2/auto-sys/ams.htm.

Of vessels already required to submit a “cargo manifest” to USCS, approximately 95 percent submit the manifest information electronically. The new Coast Guard requirement only affects these vessels by increasing the time by which Customs Form 1302 needs to be submitted (from 48 hours to 96 hours). For vessels not subject to USCS requirements, meaning vessels on a domestic voyage in the United States, the requirement to submit cargo manifest information electronically would not apply. This rulemaking would not create an exception to or exemption from any other applicable U.S. Customs regulations.

NOA submission times. In the temporary rule, we increased the times of submitting an arrival notice. We propose to make permanent the submission times established in our temporary rule. The following chart provides a summary of the proposed submission times.

BILLING CODE 4910-15-P

BILLING CODE 4910-15-P

Reporting changes to submitted NOA information. The temporary rule established procedures for reporting changes to the information submitted on an NOA. We propose to make the requirements permanent by adding a new section, § 160.214 “Requirements for submitting changes to NOA reports”. Changes to NOAs would be reported as soon as practical but no less than 12 or 24 hours prior to entering port depending on vessel and voyage characteristics. When reporting changes, a complete resubmission of an entire report would not be necessary. See Chart 1, above, for the proposed submission times applicable to reporting changes.

Notice of Departure (NOD). The Coast Guard proposes to combine all of the information elements of a Notification of Departure (NOD) and an NOA into a single NOA report. Both notices contained duplicate reporting elements, although the NOD required the submission of one additional element. We propose to include the additional element (the estimated date and time of departure) in the NOA report, thereby, eliminating reporting the same information twice and reducing the reporting burden.

Multiple Ports. Submitters would also be allowed to file a single NOA report listing all consecutive U.S. destinations during the voyage, along with estimated arrival and departure dates and times for each port.

Require centralized submissions. As established in the temporary rule, we propose that all NOA reports continue to go to the NVMC instead of to individual Captains of the Port (COTPs). Foreign vessels of 300 gross tons or less operating in the Seventh Coast Guard District would continue to submit NOA reports to cognizant COTPs.

Vessels transiting inbound on the Saint Lawrence Seaways would be able to meet the NOA reporting requirements by continuing to fax their submissions to the Saint Lawrence Seaway Development Corporation and the Saint Lawrence Seaway Management Corporation of Canada. The Canadian offices would forward each vessel's NOA report to the Coast Guard.

We require the owner, authorized agent, master, operator, or person in charge of a vessel to report a vessel's arrival to the NVMC. We are considering accepting NOA submissions from only the vessel owner and operator, or from only the owner, operator, and authorized agent (including shipping agents and marine exchanges) of the vessel. We specifically request comments on how either of these changes would affect the method of submission you currently use.

Electronic Submissions. We are considering developing the capability to receive and automatically process NOA data that is submitted in a specified electronic file format. At this time, we are requesting comments regarding electronic submittals. If electronic submission capabilities are improved and in place when a final rule is published, it would be the preferred or possibly the required method for filing NOA reports. The following six questions can be used as a guide; however, comments need not be limited to answering the questions:

1. What are your information security concerns regarding electronic submissions of NOA?

2. Would you allow the Coast Guard to forward all or parts of your NOA information to entities such as marine exchanges or port authorities as a value added service to facilitate information sharing at the port level?

3. If the Coast Guard produced a desktop application that allowed you to create, manage, and automatically submit NOA via email, would you use it?

4. Which electronic means for submitting NOAs would you prefer? (e.g.: HTML, SMTP, FTP)

5. What are your information security concerns if the Coast Guard allowed you to send your NOA to an FTP (File Transfer Protocol) server or web server in the public domain?

6. If the Coast Guard provided an XML (Extensible markup language) data specification for NOA, would you be able to generate XML documents and submit them via email or other means?

Exemptions from NOA reporting. The temporary final rule suspended reporting exemptions for vessels complying with Automated Mutual Assistance Vessel Rescue System (AMVER), certain vessels operating solely on the Great Lakes, and vessels operating on a regularly scheduled route. We propose to permanently remove these exemptions.

Under this proposal, U.S. vessels, except tank vessels, operating solely between U.S. ports on the Great Lakes would be exempt from reporting. Canadian vessels, U.S. tank vessels coming from a foreign port, and vessels complying with AMVER would be required to submit an NOA report. Vessels operating on a regularly scheduled route would be required to submit an NOA report.

Additionally, we propose revising the exemption from reporting for each barge. At the moment, each barge carrying cargoes other than certain dangerous cargoes is exempt from NOA reporting. In this rule, we would limit this exemption to barges coming from a U.S. port. This change would require barges coming from a foreign port to submit an NOA.

Other changes. We propose permanently adding definitions for “crewmember”, “nationality”, and “persons in addition to crewmembers”. We would also revise the definition for “certain dangerous cargo” to conform to language used by the Research and Special Programs Administration (RSPA) in some Division 1.5 materials and add UN hazardous class division numbers.

Regulatory Evaluation

This proposed rule is not a “significant regulatory action” under section 3(f) of Executive Order 12866, Regulatory Planning and Review, and does not require an assessment of potential costs and benefits under section 6(a)(3) of that Order. The Office of Management and Budget (OMB) has not reviewed it under that Order. It is not “significant” under the regulatory policies and procedures of the Department of Transportation (DOT) (44 FR 11040, February 26, 1979).

We expect the economic impact of this proposed rule to be so minimal that a full Regulatory Evaluation under paragraph 10e of the regulatory policies and procedures of DOT is unnecessary. We present this Regulatory Evaluation for the purposes of information. A detailed Assessment is available in the docket as indicated under ADDRESSES. A summary of the Assessment follows:

Assessment. The regulatory baseline for this rule is the NOA and NOD reporting requirements in 33 CFR part 160 that are proposed to be amended by this rulemaking. At the present, the requirements of part 160 that we propose to amend are temporarily suspended. During the suspension period of these requirements there has been a temporary final rule NOA and NOD reporting in place since October 4, 2001. The effect of the temporary final rule ends on September 30, 2002. The temporary reporting requirements are not addressed in this analysis. This means that the cost of the proposed rule is estimated as the incremental expenditure required to meet the provisions of the proposed rule in absence of the temporary rule published October 4, 2001.

The cost for complying with the proposed rule will differ depending on the type of vessel submitting the report. Owners and operators of non-AMVER/non-Great Lakes vessels will have to submit lists of the crew and persons in addition to the crew (information they already have to submit to INS). Additionally, these vessels must provide detail on the persons aboard the vessel (e.g. port where embarked, aliases). Owners and operators of AMVER and Great Lakes vessels may complete the INS forms (which they did not have to provide previously), the crew lists, and the crew detail.

The cost of the proposed rule to industry is presented below based on the average number of annual arrivals for 1998 and 1999.

Annual Cost and Benefit of the Proposed Rule
[2002 Dollars]
NOA report | Arrivals | Cost per arrival | Annual cost
Non-AMVER/Non-Great Lakes | 63,286 | $95.17 | $6,022,715
AMVER | 4,040 | 141.75 | 572,603
Great Lakes | 813 | 141.75 | 115,243
Totals |  |  | 6,710,561
Detail may not calculate to total due to independent rounding.

As shown, the proposed rule is estimated to cost $6.7 million annually. Over the next 10 years, the Present Value (PV) cost of the proposed rule is $50.4 million (2002-2011, 7 percent discount rate, 2002 dollars).

The non-quantifiable benefit of the proposed rule, would be—

• Providing relevant information about an applicable vessel's cargo, crewmembers, and passengers as well as a threat it may pose; and

• Providing more time to evaluate, analyze, and respond to the information collected.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain how and why you think it qualifies and to what degree this rule would economically affect it.

Assistance for Small Entities

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for a collection of information under the Paperwork Reduction Act of 1995 (44 U.S.C. 3501-3520). As defined in 5 CFR 1320.3(c), “collection of information” comprises reporting, recordkeeping, monitoring, posting, labeling, and other similar actions. The title and description of the information collections, a description of those who must collect the information, and an estimate of the total annual burden follow. The estimate covers the time for reviewing instructions, searching existing sources of data, gathering and maintaining the data needed, and completing and reviewing the collection. The new collection of information estimate is based on the current collection, which accounts for the temporary rule. The temporary changes will be in effect until September 30, 2002.

Title: Advance Notice of Vessel Arrival and Departure.

OMB Control Number: 2115-0557.

Summary of the Collection of Information: The Coast Guard requires pre-arrival messages from any vessel entering a port or place in the United States. This rule will amend 33 CFR part 160 to permanently require:

• Earlier receipt of the notice of arrival—96 hours instead of 24 hours—from vessels currently required to provide advance notification of arrival;

• Submission of NOA reports to a central clearinghouse, the National Vessel Movement Center;

• Removal of the current exemption from notice of arrival reporting requirements for vessels operating in compliance with the Automated Mutual Assistance Vessel Rescue System, some vessels operating on the Great Lakes, and vessels on scheduled routes; and

• Additional information about crewmembers, passengers, cargoes on board the vessel to be provided as items in the notice of arrival report.

Need for Information: To ensure port safety and security and to ensure the uninterrupted flow of commerce, the Coast Guard must permanently change regulations relating to the Notifications of Arrival requirements.

Proposed Use of Information: This information is required to control vessel traffic, develop contingency plans, enforce regulations, and enhance maritime security.

Description of the Respondents: Respondents are owners and operators of vessels that arrive at or depart from a port or place in the United States after departing from foreign ports.

Number of Respondents: The existing OMB-approved collection number of respondents is 10,367 (respondents are owners/operators of the vessels calling on U.S. ports annually). This proposed rule will not increase the number of respondents.

Frequency of Response: Owners/operators of vessels making calls in U.S. ports will submit NOA reports as necessary. The existing OMB-approved collection number of responses is 136,278 (responses are arrivals at and departures from U.S. ports). This proposed rule will decrease the number of responses by 68,139 (separate Notification of Departure reports are no longer required) for a net total of 68,139 responses.

Burden of Response: The existing OMB-approved collection burden of response is approximately 15 minutes (0.250 hours) (burden of response is the time required to complete the paperwork requirements of the rule for a single response). This proposed rule will increase the burden of response by an average of 60 minutes (1.000 hour) and decrease the burden of response by 1 minute (0.017 hours) for a net total of 74 minutes (1.233 hours).

Estimate of Total Annual Burden: The existing OMB-approved collection total annual burden is 39,037 hours (total annual burden is the time required to complete the paperwork requirements of the rule for all responses). This proposed rule will increase the total annual burden by 136,278 hours and decrease total annual burden by 1,136 hours for a net total of 174,179 hours.

As required by the Paperwork Reduction Act of 1995 (44 U.S.C. 3507(d)), we have submitted a copy of this proposed rule to OMB for its review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. Before the requirements for this collection of information become effective, we will publish notice in the Federal Register of OMB's decision to approve, modify, or disapprove the collection.

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order. We invite your comments on how this proposed rule might impact tribal governments, even if that impact may not constitute a “tribal implication” under the Order.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Environment

We have considered the environmental impact of this proposed rule and concluded that under figures 2-1, paragraph (34)(a), of Commandant Instruction M16475.lD, this rule is categorically excluded from further environmental documentation. This rulemaking would change the requirements in the notification of arrival regulations. They would be procedural in nature and therefore are categorically excluded. A “Categorical Exclusion Determination” is available in the docket where indicated under ADDRESSES.

List of Subjects in 33 CFR Part 160

Administrative practice and procedure, Harbors, Hazardous materials transportation, Marine safety, Navigation (water), Reporting and recordkeeping requirements, Vessels, Waterways.

For the reasons discussed in the preamble, the Coast Guard proposes to amend 33 CFR part 160 as follows:

PART 160—PORTS AND WATERWAYS SAFETY—GENERAL

Subpart C—Notifications of Arrival, Departures, Hazardous Conditions, and Certain Dangerous Cargoes

1. The authority citation for part 160 is amended to read as follows:

Authority: 33 U.S.C. 1223, 1226, 1231; 49 CFR 1.46.

2. Revise § 160.201 to read as follows:

§ 160.201 Applicability and exceptions to applicability.

(a) This subpart prescribes notification requirements for U.S. and foreign vessels bound for or departing from ports or places in the United States.

(b) This subpart does not apply to recreational vessels under 46 U.S.C. 4301 et seq. and, except § 160.215 (Notice of Hazardous Conditions), does not apply to:

(1) Passenger and supply vessels when they are employed in the exploration for or in the removal of oil, gas, or mineral resources on the continental shelf; and

(2) Oil Spill Recovery Vessels (OSRVs) when engaged in actual spill response operations or during spill response exercises.

(c) Section 160.207 does not apply to the following:

(1) Each vessel of 300 gross tons or less, except a foreign vessel of 300 gross tons or less entering any port or place in the Seventh Coast Guard District as described by 3.35-1(b) of this chapter.

(2) Each vessel operating exclusively within a Captain of the Port zone.

(3) [Reserved]

(4) Each vessel arriving at a port or place under force majeure.

(5) [Reserved]

(6) Each barge operating solely between ports or places in the United States.

(7) Each public vessel.

(8) U.S. vessels, except tank vessels, operating solely between ports or places in the United States on the Great Lakes.

(d) Sections 160.207(b)(17) and 160.211(d)(21) do not apply to vessels on domestic voyages.

(e) Sections 160.207 and 160.211 apply to each vessel upon the waters of the Mississippi River between its mouth and mile 235, Lower Mississippi River, Above Head of Passes. Sections 160.207 and 160.211 do not apply to each vessel upon the waters of the Mississippi River between its sources and mile 235, Above Head of Passes, and all the tributaries emptying thereinto and their tributaries, and that part of the Atchafalaya River above its junction with the Plaquemine-Morgan City alternate waterway, and the Red River of the South.

3. In § 160.203, revise the definitions of “Certain dangerous cargo” and “Public vessel”, and add in alphabetic order definitions for “Crewmember”, “Nationality”, and “Persons in addition to crewmembers” to read as follows:

§ 160.203 Definitions.

* * * * *

Certain dangerous cargo includes any of the following:

(a) Division 1.1 or 1.2 (explosive) materials, as defined in 49 CFR 173.50.

(b) Division 5.1 oxidizing materials or Division 1.5 blasting agents for which a permit is required under 49 CFR 176.415.

(c) Division 2.3 gas that is a material poisonous by inhalation, as defined in 49 CFR 171.8, and that is in a quantity in excess of 1 metric ton per vessel.

(d) Division 6.1 liquid that is a material poisonous by inhalation, as defined in 49 CFR 171.8, and that is in a bulk packaging, or that is in a quantity in excess of 20 metric tons per vessel when not in a bulk packaging.

(e) Division 2.1 flammable gas that is in a quantity in excess of 20 metric tons per vessel.

(f) Division 4.2 spontaneously combustible material assigned to packing group I, that is in a quantity in excess of 20 metric tons per vessel.

(g) Division 4.3 dangerous when wet material that is in a quantity in excess of 20 metric tons per vessel.

(h) Class 7, highway route controlled quantity radioactive material, or fissile material, controlled shipment, as defined in 49 CFR 173.403.

(i) Each cargo under Table 1 of 46 CFR Part 153 when carried in bulk.

(j) Each cargo under Table 4 of 46 CFR Part 154 when carried in bulk.

(k) Each cargo under Table 151.05 of 46 CFR Part 151 when carried in bulk.

(l) Ammonium nitrate or ammonium nitrate fertilizers when carried in bulk.

* * * * *

Public Vessel means a vessel that is owned or demise-(bareboat) chartered by the government of the United States, by a State or local government, or by the government of a foreign country and that is not engaged in commercial service, including a vessel under Military Sealift Command control or charter.

* * * * *

Crewmember means all persons carried on board the vessel to provide navigation and maintenance of the vessel, its machinery, systems, and arrangements essential for propulsion and safe navigation or to provide services for other persons on board.

* * * * *

Nationality means the state (nation) in which a person is a citizen or to which a person owes permanent allegiance.

* * * * *

Persons in addition to crewmembers means any person onboard the vessel, including passengers, who are not included on the list of crewmembers.

* * * * *

4. Add § 160.204 to read as follows:

§ 160.204 Submission of notice of arrival (NOA) reports.

(a) Except as provided in paragraphs (c) and (d) of this section, all vessels required to report notice of arrival information in §§ 160.207(b)(1) through (16) or §§ 160.211(d)(1) through (20) must submit the notice to the National Vessel Movement Center (NVMC), United States Coast Guard, 408 Coast Guard Drive, Kearneysville, WV, 25430, by:

(1) Telephone at 1-800-708-9823;

(2) Fax at 1-800-547-8724; or

(3) E-mail at SANS@NVMC.USCG.gov.

Note: Information about the National Vessel Movement Center is available on its website at http://www.nvmc.uscg.gov/.

(b)(1) The notice of arrival information required by §§ 160.207(b)(17) or 160.211(d)(21) must be submitted electronically to the United States Customs Service's (USCS) Sea Automated Manifest System (AMS) by one of the following methods and in accordance with 19 CFR 4.7(a):

(i) By Direct Connection with USCS or by purchasing the proper software; or

(ii) Using a Service Provider or a Port Authority.

(2) To become a participant in Sea AMS, submitters must provide a letter of intent prior to first submission.

(c) Those vessels 300 or less gross tons operating in the Seventh Coast Guard District required by § 160.207 or § 160.211 to report notice of arrival and departure information must submit the notice to the cognizant Captain of the Port (COTP).

(d) Those vessels transiting the Saint Lawrence Seaway inbound, bound for a port or place in the United States, may meet the submission requirements of paragraph (a) of this section by submitting the required information to the Saint Lawrence Seaway Development Corporation and the Saint Lawrence Seaway Management Corporation of Canada by Fax at 315-764-3250 or at 613-932-5240.

5. Revise § 160.207 to read as follows:

§ 160.207 Notice of arrival: Vessels bound for ports or places in the United States.

(a) The owner, agent, master, operator, or person in charge of a vessel on a voyage of:

(1) 96 hours or more must submit the information under paragraph (b) of this section at least 96 hours before entering the port or place of destination;

(2) Less than 96 hours but not less than 24 hours must submit the information under paragraph (b) of this section prior to departing the port or place of departure, but not less than 24 hours before entering the port or place of destination; or

(3) Less than 24 hours must submit the information in paragraph (b) of this section prior to departing the port or place of departure.

(b) Vessels required to submit a NOA report under paragraph (a) of this section must include the following information in the report:

(1) Name of the vessel;

(2) Country of registry of the vessel;

(3) Call sign of the vessel;

(4) International Maritime Organization (IMO) international number or, if the vessel does not have an assigned IMO international number, the official number of the vessel;

(5) Name of the registered owner of the vessel;

(6) Name of the operator of the vessel;

(7) Name of the classification society of the vessel;

(8) Provide the following for the last five ports or places visited —

(i) The name of each port; and

(ii) The dates of arrival and departure for each port listed;

(9) For each destination list the names of the receiving facility, the port or place in the United States, the city, and state;

(10) Estimated date and time of arrival at each port or place listed;

(11) Estimated date and time of departure from each port or place listed;

(12) Location (port or place and country) or position (latitude and longitude) of the vessel at the time of reporting;

(13) Name and telephone number of a 24-hour point of contact for each port included in the notice of arrival;

(14) General description of cargo onboard the vessel (e.g.: grain, container, oil, etc.);

(15) A list of crewmembers onboard the vessel. The list must include the following information for each person:

(i) Full name;

(ii) Any other name including alias, nickname, maiden name, professional or stage name by which each individual has been known;

(iii) Date of birth;

(iv) Nationality;

(v) Passport number or mariners document number (type of identification and number);

(vi) Position or duties on the vessel; and

(vii) Where the crewmember embarked (list port or place and country);

(16) A list of persons in addition to the crew onboard the vessel. The list must include the following information for each person:

(i) Full name;

(ii) Date of birth;

(iii) Nationality;

(iv) Passport number; and

(v) Where the person embarked; and

(17) Cargo Declaration (Customs Form 1302) as described in 19 CFR 4.7(a).

(c) You may submit a copy of INS Form I-418 to satisfy the requirements of paragraphs (b)(15)(i), (b)(15)(iii) through (vi), and (b)(16) of this section.

(d) International Safety Management (ISM) Code (Chapter IX of SOLAS) Notice. If you are the owner, agent, master, operator, or person in charge of a passenger vessel carrying more than 12 passengers and engaged on a foreign voyage to the United States or a tank vessel, bulk freight vessel, high speed freight vessel, other type of freight vessel, or a self propelled mobile offshore drilling unit that is 500 gross tons or more and engaged on a foreign voyage to the United States, you must provide the ISM Code notice described in paragraph (e) of this section.

(e) ISM Code notice includes the following:

(1) The date of issuance for the company's Document of Compliance certificate that covers the vessel.

(2) The date of issuance for the vessel's Safety Management Certificate, and,

(3) The name of the Flag Administration, or the recognized organization(s) representing the vessel flag administration, that issued those certificates.

(f) Any vessel planning to enter two or more consecutive ports or places in the United States during a single voyage may submit one consolidated Notification of Arrival at least 96 hours before entering the first port or place of destination. The consolidated notice must include the port name and estimated arrival date for each destination of the voyage. Any vessel submitting a consolidated notice under this section must still meet the requirements of § 160.214 of this part concerning changes to required information.

6. Revise § 160.211 to read as follows:

§ 160.211 Notice of arrival: Vessels carrying certain dangerous cargo.

(a) The owner, agent, master, operator, or person in charge of a vessel, other than a barge, carrying certain dangerous cargo and bound for a port or place in the United States that is:

(1) 96 hours or more away from the vessel's port of destination must report the information in paragraph (d) of this section at least 96 hours before entering the port or place of destination;

(2) Less than 96 hours but not less than 24 hours away from the vessel's port of destination must report the information in paragraph (d) of this section prior to departing the port or place of departure, but not less than 24 hours before entering the port or place of destination; or

(3) Less than 24 hours away from the vessel's port of destination must report the information in paragraph (d) of this section prior to departing the port or place of departure.

(b) The owner, agent, master, operator, or person in charge of a barge carrying certain dangerous cargo, that is:

(1) 24 hours or greater away from the vessel's port of destination must report the information required in paragraphs (d)(1) through (d)(3) and (d)(7) through (d)(20) of this section at least 12 hours before entering that port or place; or

(2) Less than 24 hours away from the vessel's port of destination must report the information required in paragraphs (d)(1) through (d)(3) and (d)(7) through (d)(20) of this section prior to departing the port or place of departure.

(c) A vessel submitting a notice of arrival under this section satisfies the notice requirements under § 160.207.

(d) The following information must be submitted as prescribed by § 160.204:

(1) Name of the vessel;

(2) Country of registry of the vessel;

(3) Call sign of the vessel;

(4) International Maritime Organization (IMO) international number or, if the vessel does not have an assigned IMO international number, the official number of the vessel;

(5) Name of the registered owner of the vessel;

(6) Name of the operator of the vessel;

(7) Name of the classification society of the vessel;

(8) Provide the following for the last five ports or places visited—

(i) The name of each port; and

(ii) The dates of arrival and departure for each port listed;

(9) For each destination list the names of the receiving facility, the port or place in the United States, the city, and state;

(10) Estimated date and time of arrival at each port or place listed;

(11) Estimated date and time of departure from each port or place listed;

(12) Location (port or place and country) or position (latitude and longitude) of the vessel at the time of reporting;

(13) Name and telephone number of a 24-hour point of contact for each port included in the notice of arrival;

(14) Name of each of the certain dangerous cargoes carried, including cargo UN number, if applicable;

(15) Amount of each of the certain dangerous cargoes carried;

(16) Stowage location of each of the certain dangerous cargoes carried;

(17) General description of cargo, other than dangerous cargoes, onboard the vessel;

(18) Operational condition of the equipment under § 164.35 of this chapter;

(19) A list of crewmembers onboard the vessel. The list must include the following information for each person:

(i) Full name;

(ii) Any other name including alias, nickname, maiden name, professional or stage name by which each individual has been known;

(iii) Date of birth;

(iv) Nationality;

(v) Passport number or mariners document number (type of identification and number);

(vi) Position or duties on the vessel; and

(vii) Where the crewmember embarked (list port or place and country);

(20) A list of persons in addition to the crew onboard the vessel. The list must include the following information for each person:

(i) Full name;

(ii) Date of birth;

(iii) Nationality;

(iv) Passport number; and

(v) Where the person embarked; and

(21) Cargo Declaration (Customs Form 1302) as described in 19 CFR 4.7(a).

(e) You may submit a copy of INS Form I-418 to meet the requirements of paragraphs (d)(19)(i), (d)(19)(iii) through (vi), and (d)(20) of this section.

(f) Any vessel planning to enter two or more consecutive ports or places in the United States during a single voyage may submit one consolidated Notification of Arrival at least 96 hours before entering the first U.S. port or place of destination. The consolidated notice must include the port name and estimated arrival date for each destination of the voyage. Any vessel submitting a consolidated notice under this section must still meet the requirements of § 160.214 of this part concerning changes to required information.

§ 160.213 [Removed and Reserved]

7. Remove § 160.213.

8. Add § 160.214 to read as follows:

§ 160.214 Requirements for submitting changes to notice of arrival reports.

(a) The owner, agent, master, operator, or person in charge of a vessel, other than a barge, that is:

(1) 96 hours or more away from the vessel's port of destination must report the information in paragraph (d) of this section as soon as practicable but not less than 24 hours before entering the port of destination;

(2) Less than 96 hours but not less than 24 hours away from the vessel's port of destination must report the information in paragraph (d) of this section as soon as practicable but not less than 24 hours before entering the port of destination; or

(3) Less than 24 hours away from the vessel's port of destination must report the information in paragraph (d) of this section as soon as practicable but no less than 12 hours before entering the port of destination.

(b) The owner, agent, master, operator, or person in charge of a barge carrying certain dangerous cargo must report the information in paragraph (d) of this section as soon as practicable but not less than 12 hours before entering the port of destination;

(c) The owner, agent, master, operator, or person in charge of a vessel, other than a barge, carrying certain dangerous cargo and bound for a port or place in the United States that is less than 24 hours away from the vessel's port of destination must report the information in paragraph (d) of this section as soon as practicable but not less than 12 hours before entering the port of destination.

(d) Each owner, agent, master, operator, or person in charge of a vessel required to report a notice of arrival under §§ 160.207 and 160.211 of this part must submit a notice of change as detailed in paragraphs (a) and (b) of this section if any of the required notice of arrival information has changed, except that:

(1) Changes in arrival or departure time that are less than six (6) hours need not be reported; and

(2) Changes in vessel position need only be reported when an update is otherwise required.

(e) When reporting changes do not resubmit the entire NOA report, only report—

(1) Specific items to be corrected in the submitted NOA report; and

(2) Include the new location or position of the vessel at the time of reporting changes.

Dated: June 13, 2002.
Paul J. Pluta,
Rear Admiral, U.S. Coast Guard, Assistant, Commandant for Marine Safety, Security and Environmental Protection.

[FR Doc. 02-15432 Filed 6-14-02; 1:38 pm]

BILLING CODE 4910-15-P